DEPARTMENT OF DEFENSE

Office of the Secretary

[Docket ID DoD-2021-OS-0112]

Submission for OMB Review; Comment Request

AGENCY: Chief Information Officer (CIO), Department of Defense (DoD).

ACTION: 30-Day information collection notice.

SUMMARY: The Department of Defense has submitted to OMB for clearance the following proposal for collection of information under the provisions of the Paperwork Reduction Act.

DATES: Consideration will be given to all comments received by April 27, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: System Authorization Access Request Form; DD Form 2875; OMB Control Number 0704-SAAR.

Type of Request: New Request.

Number of Respondents: 900,000.

Responses per Respondent: 8.

Annual Responses: 7,200,000.

Average Burden per Response: 5 minutes.

Annual Burden Hours: 600,000.

Needs and Uses: The information collection is necessary for validating the trustworthiness of individuals who request access to DoD systems and information. When an individual requires access to a DoD information system, application, or database, he/she retrieves the DD Form 2875. Executive Order 10450 “Security Requirements for Government Employment” establishes the security requirements for government employment. The requestor's security requirements (background investigation and clearance information) are identified on the DD Form 2875 and validated by the cognizant Security Manager. Collection of the requestor's information ensures that any system access granted is consistent with the interests of the national security.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 22, 2022.
Aaron T. Siegel,
Alternate OSD Federal Register Liaison Officer, Department of Defense.

[FR Doc. 2022-06469 Filed 3-25-22; 8:45 am]

BILLING CODE 5001-06-P